DEPARTMENT OF JUSTICE

Parole Commission

Sunshine Act Meeting

TIME AND DATE: 11:00 a.m., July 27, 2016.

PLACE: U.S. Parole Commission, 90 K Street NE., 3rd Floor, Washington, DC.

STATUS: Open.

MATTERS TO BE CONSIDERED: Approval of May 11, 2016 minutes.

CONTACT PERSON FOR MORE INFORMATION: Jacqueline Graham, Staff Assistant to the Chairman, U.S. Parole Commission, 90 K Street NE., 3rd Floor, Washington, DC 20530, (202) 346-7010.

Dated: July 15, 2016.
J. Patricia W. Smoot,
Chairman, U.S. Parole Commission.

[FR Doc. 2016-17262 Filed 7-18-16; 4:15 pm]

BILLING CODE 4410-31-P